DEPARTMENT OF COMMERCE

National Oceanic and Atmospheric Administration

RIN 0648-XA164

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Scientific and Statistical Committee (SSC) will hold a webinar.

DATES: The meeting will be held on Monday, February 7, 2011, from 10 a.m. to 12 p.m.

ADDRESSES: The webinar will be held at Mid-Atlantic Fishery Management Council, 800 N. State Street, Suite 201, Dover, DE 19901; telephone: (302) 674-2331.

Council address: Mid-Atlantic Fishery Management Council, 800 N. State Street, Suite 201, Dover, DE 19901; telephone: (302) 674-2331.

FOR FURTHER INFORMATION CONTACT: Christopher M. Moore, PhD, Executive Director, Mid-Atlantic Fishery Management Council, 800 N. State Street, Suite 201, Dover, DE 19901; telephone: (302) 526-5255.

SUPPLEMENTARY INFORMATION: The purpose of the meeting is to review and discuss the most recent butterfish abundance information generated from the NEFSC autumn bottom trawl survey in relation to the SSC's ABC recommendation for butterfish for the 2011 fishing year. The public may obtain information about accessing the webinar by visiting the Mid-Atlantic Council's Web site at http://www.mafmc.org. In addition, a listening station will be located at the Council's office located at Suite 201, 800 N. State Street, Dover, DE 19901.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: January 18, 2011.
William D. Chappell,
Acting Director, Office of Sustainable Fisheries, National Marine Fisheries Service.

[FR Doc. 2011-1239 Filed 1-20-11; 8:45 am]

BILLING CODE 3510-22-P